DEPARTMENT OF HOMELAND SECURITY

U.S. Customs and Border Protection

Agency Information Collection Activities: Transportation Entry and Manifest of Goods Subject to CBP Inspection and Permit

AGENCY: U.S. Customs and Border Protection, Department of Homeland Security.

ACTION: 30-Day notice and request for comments; Extension of an existing information collection: 1651-0003.

SUMMARY: U.S. Customs and Border Protection (CBP) of the Department of Homeland Security will be submitting the following information collection request to the Office of Management and Budget (OMB) for review and approval in accordance with the Paperwork Reduction Act: Transportation Entry and Manifest of Goods Subject to CBP Inspection and Permit. This is a proposed extension of an information collection that was previously approved. CBP is proposing that this information collection be extended with no change to the burden hours. This document is published to obtain comments from the public and affected agencies. This information collection was previously published in the Federal Register (78 FR 57405) on September 18, 2013, allowing for a 60-day comment period. This notice allows for an additional 30 days for public comments. This process is conducted in accordance with 5 CFR 1320.10.

DATES: Written comments should be received on or before January 15, 2014 to be assured of consideration.

ADDRESSES: Interested persons are invited to submit written comments on this information collection to the Office of Information and Regulatory Affairs, Office of Management and Budget. Comments should be addressed to the OMB Desk Officer for U.S. Customs and Border Protection, Department of Homeland Security, and sent via electronic mail to oira_submission@omb.eop.gov or faxed to (202) 395-5806.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: CBP invites the general public and affected Federal agencies to submit written comments and suggestions on proposed and/or continuing information collection requests pursuant to the Paperwork Reduction Act (Pub. L. 104-13; 44 U.S.C. 3507). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: Transportation Entry and Manifest of Goods Subject to CBP Inspection and Permit.

OMB Number: 1651-0003.

Form Number: CBP Forms 7512 and 7512A.

Abstract: CBP Forms 7512 and 7512A are used by carriers and brokers to serve as the manifest and transportation entry for cargo moving under bond within the United States. The data on the form is used by CBP to identify the carrier who initiated the bonded movement and to document merchandise moving in-bond. These forms provide documentation that CBP uses for enforcement, targeting, and protection of revenue. Forms 7512 and 7512A collect information such as the names of the importer and consignee; a description of the merchandise moving in-bond; and the ports of lading and unlading. These forms are provided for by 19 CFR 10.60, 19 CFR 10.61, 19 CFR 18.11, 19 CFR 18.20 and 19 CFR 18.25, and can be found at http://www.cbp.gov/xp/cgov/toolbox/forms/.

Current Actions: CBP proposes to extend the expiration date of this information collection with no change to the burden hours or to the information being collected on CBP Form 7512.

Type of Review: Extension (without change).

Affected Public: Businesses.

Estimated Number of Respondents: 6,200.

Estimated Number of Responses per Respondent: 871.

Estimated Number of Total Annual Responses: 5,400,001.

Estimated Time per Response: 10 minutes.

Estimated Total Annual Burden Hours: 896,400 hours.

Dated: December 11, 2013.
Tracey Denning,
Agency Clearance Officer, U.S. Customs and Border Protection.

[FR Doc. 2013-29816 Filed 12-13-13; 8:45 am]

BILLING CODE 9111-14-P